SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on July 17, 2012 from approximately 2:00 p.m. to 5:00 p.m. EDT.

ADDRESSES: The meeting will be held via web teleconference. The web conference URL: https://www/connectmeeting.att.com. The meeting/teleconference number: 888-858-2144; and Access Code: 4518629.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to discuss NWBC's 2012 action items, the status of research projects, and the NWBC and Women Impacting Public Policy's Leadership Summit on July 19, 2012.

FOR FURTHER INFORMATION CONTACT: The meeting is open to the public however advance notice of attendance is requested. Anyone wishing to attend or make a presentation to the NWBC must either email their interest to info@nwbc.gov or call the main office number at 202-205-3850.

Those needing special accommodation in order to attend or participate in the meeting, please contact 202-205-3850 no later than July 13, 2012.

For more information, please visit our Web site at www.nwbc.gov.

Marisa Renee Lee,
Senior Advisor to the Deputy Administrator.

[FR Doc. 2012-16601 Filed 7-6-12; 8:45 am]

BILLING CODE 8025-01-P